DEPARTMENT OF DEFENSE

Department of the Army

[Docket ID USA-2012-0005]

Privacy Act of 1974; System of Records

AGENCY: Department of the Army, DoD.

ACTION: Notice to Delete Fifteen Systems of Records.

SUMMARY: The Department of the Army is deleting fifteen systems of records notices in its existing inventory of record systems subject to the Privacy Act of 1974 (5 U.S.C. 552a), as amended.

DATES: This proposed action will be effective on April 6, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974, (5 U.S.C. 552a), as amended, have been published in the Federal Register and are available from the address in FOR FURTHER INFORMATION CONTACT.

The Department of the Army proposes to delete fifteen systems of records notices from its inventory of record systems subject to the Privacy Act of 1974 (5 U.S.C. 552a), as amended. The proposed deletions are not within the purview of subsection (r) of the Privacy Act of 1974, (5 U.S.C. 552a), as amended, which requires the submission of a new or altered system report.

Dated: March 2, 2012.
Aaron Siegel,
Alternate OSD Federal Register Liaison Officer, Department of Defense.

Deletions:

A0001a AHRC

Office Visitor/Commercial Solicitor Files (February 23, 2004, 69 FR 8183).

Reason:

As of January 2010 records covered by this System of Records notice are no longer collected by Army Human Resource Command, have met the approved NARA retention schedule; therefore the notice can be deleted.

A0060-20 USFK

Ration Control/Blackmarket Monitoring Files (August 24, 1999, 64 FR 46186).

Reason:

The records have been transferred under SORN A0600-8, USKF (February 7, 2001, 66 FR 9298) and are under the same NARA disposition. Therefore, system of records notice A0060-20, USFK can be deleted.

A0001 DAPE

Personnel Locator/Organizational Roster/Telephone Directory (February 22, 1993, 58 FR 10002).

Reason:

The records in this system will now be covered under system of records notice DPR 39, DoD Personnel Accountability and Assessment System (March 24, 2010, 75 FR 14141). The records will be retained and have the same NARA approved retention for DPR 39 DoD. Therefore, the system of records notice can be deleted.

A0210-130 DALO

Laundry Accounting Files (April 12, 1999, 64 FR 17641).

Reason:

The program using this system of records notice is no longer active. The approved NARA retention schedule for the records stored in the system have been met, and therefore, the system of records notice can be deleted.

A0001b AHRC

Unit Administrative Military Personnel Records (January 6, 2004, 69 FR 790).

Reason:

The program using this system of records notice has been deactivated and has met the approved NARA retention schedule; therefore, the system of records notice can be deleted.

A0015-34 AHRC

Army Civilian/Military Service Review Board (January 6, 2004, 69 FR 790).

Reason:

The program has been discontinued at Army Human Resource Command, records have met the approved NARA retention schedule and are no longer collected; therefore, the system of records notice can be deleted.

A0065 AHRC

Postal and Mail Service System (January 6, 2004, 69 FR 790).

Reason:

The program has been discontinued at Army Human Resource Command, records have met the approved NARA retention schedule and are no longer collected; therefore, the system of records notice can be deleted.

A0210-190 AHRC

Individual Gravesite Interment Files (January 6, 2004, 69 FR 790).

Reason:

The program has been discontinued at Army Human Resource Command, and records have met the approved NARA retention schedule; therefore, the system of records notice can be deleted.

A0600-8-104b AHRC

Official Military Personnel Record (August 18, 2004, 69 FR 51271).

Reason:

The program has been discontinued at Army Human Resource Command, and records have met the approved NARA retention schedule; therefore, the system of records notice can be deleted.

A0600-8-104g AHRC

Career Management Individual and Dual Component Personnel Files (January 6, 2004, 69 FR 790).

Reason:

The program has been discontinued at Army Human Resource Command, and records have met the approved NARA retention schedule; therefore, the system of records notice can be deleted.

A0600-8-14 AHRC

Uniformed Services Identification Card (January 6, 2004, 69 FR 790).

Reason:

The records are no longer collected at Army Human Resource Command, and have met the approved NARA retention schedule; therefore, the system of records notice can be deleted.

A0600-8-1a AHRC

Emergency Data Files (January 6, 2004, 69 FR 790).

Reason:

The records are no longer collected at Army Human Resource Command, and have met the approved NARA retention schedule; therefore, the system of records notice can be deleted.

A0600-8-1b AHRC

Line of Duty Investigations (January 6, 2004, 69 FR 790).

Reason:

The program at Army Resource Command (AHRC) has been discontinued and records are no longer collected and have met the approved NARA retention schedule; therefore, the system of records notice can be deleted.

A0600-8-22 AHRC

Military Awards Case File (January 6, 2004, 69 FR 790).

Reason:

The program at Army Resource Command (AHRC) has been discontinued and records are no longer collected and have met the approved NARA retention schedule; therefore, the system of records notice can be deleted.

A0600-8-22j AHRC

Cold War Recognition System (January 6, 2004, 69 FR 790).

Reason:

The system at Army Human Resource Command (AHRC) has been deactivated and records are no longer collected and have met the approved NARA retention schedule; therefore, the system of records notice can be deleted.

[FR Doc. 2012-5516 Filed 3-6-12; 8:45 am]

BILLING CODE 5001-06-P